DEPARTMENT OF THE INTERIOR

National Park Service

[2253-665]

Notice of Inventory Completion: Central Washington University Department of Anthropology, Ellensburg, WA

AGENCY: National Park Service, Interior.

ACTION: Notice.

SUMMARY: The Central Washington University Department of Anthropology has completed an inventory of human remains in consultation with the appropriate Indian tribe, and has determined that there is a cultural affiliation between the human remains and a present-day Indian tribe. Representatives of any Indian tribe that believes itself to be culturally affiliated with the human remains may contact the Central Washington University Department of Anthropology. Repatriation of the human remains to the Indian tribe stated below may occur if no additional claimants come forward.

DATES: Representatives of any Indian tribe that believes it has a cultural affiliation with the human remains should contact the Central Washington University Department of Anthropology at the address below by April 16, 2012.

ADDRESSES: Lourdes Henebry-DeLeon, Central Washington University Department of Anthropology, 400 E. University Drive, Ellensburg, WA 98926-7544, telephone (509) 963-2671.

SUPPLEMENTARY INFORMATION: Notice is hereby given in accordance with the Native American Graves Protection and Repatriation Act (NAGPRA), 25 U.S.C. 3003, of the completion of an inventory of human remains in the possession of the Central Washington University Department of Anthropology, Ellensburg, WA. The human remains were removed from Grays Harbor County, WA.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by the Central Washington University Department of Anthropology professional staff in consultation with representatives of the Confederated Tribes of the Chehalis Reservation, Washington.

History and Description of the Remains

In November 1947, human remains representing, at minimum, one individual were removed from site 45-GH-15 (Minard) in Grays Harbor County, WA, by archeologist Richard Daugherty of the University of Washington during his systematic archeological survey of the Washington coast. Richard Daugherty noted that the property owner had inadvertently uncovered at least 27 human skeletons while plowing his fields. According to the Thomas Burke Memorial Washington State Museum (Burke Museum) accession ledger, Daugherty collected two femora and one humerus. The collection was formally accessioned by the Burke Museum in 1947 (Burke Accn. #3583). In 1974, the Burke Museum legally transferred the right humerus and left femur to Central Washington University Department of Anthropology (CWU ID BA).

The bones were examined by physical anthropologist Lourdes Henebry-DeLeon of Central Washington University, and the skeletal remains, which consist of a humerus and femur, cannot be used to establish conclusively cultural affiliation. However, the human remains have markings of 19-15(1) (right humerus) and 19-15(2) (left femur) written on them indicating the collecting location. Burke Museum records show 19-15 is the catalog number associated with site 45-GH-15. Based on the markings on the remains, the records at the Burke Museum and Richard Daugherty's survey records it is reasonably believed that these remains are from site 45-GH-15. There have been other Notices of Inventory Completion (NICs) published in the Federal Register for site 45-GH-15 (72 FR 27845-27846, May 17, 2007, and 73 FR 49484-49485, August 21, 2008). The materials reported in the earlier NICs were culturally affiliated with the Confederated Tribes of the Chehalis Reservation, Washington. Based on archeological context and the platymeric femoral morphology, the individual has been determined to be Native American. No known individual was identified. No associated funerary objects are present.

Site 45-GH-15 is located at or near the traditional Copalis village of Oyhut. The Copalis are considered to have been a band of the Lower Chehalis whose traditional territory encompassed the lower reaches of the Chehalis River and the present-day county of Grays Harbor, WA. The site is located within the area identified by the Indian Claims Commission as the aboriginal territory of the Confederated Tribes of the Chehalis Reservation, Washington. Continuities within the archeological record and oral tradition indicate that ancestors of the present day Confederated Tribes of the Chehalis Reservation, Washington, resided at the site.

Determinations Made by the Central Washington University Department of Anthropology

Officials of Central Washington University Department of Anthropology have determined that:

• Pursuant to 25 U.S.C. 3001(9), the human remains described in this notice represent the physical remains of one individual of Native American ancestry, based on the archeological context.

• Pursuant to 25 U.S.C. 3001(2), there is a relationship of shared group identity that can be reasonably traced between the Native American human remains and the Confederated Tribes of the Chehalis Reservation, Washington.

Additional Requestors and Disposition

Representatives of any Indian tribe that believes itself to be culturally affiliated with the human remains should contact Lourdes Henebry-DeLeon, Central Washington University Department of Anthropology, 400 E. University Drive, Ellensburg, WA 98926-7544, telephone (509) 963-2671, before April 16, 2012. Repatriation of the human remains to Confederated Tribes of the Chehalis Reservation, Washington, may proceed after that date if no additional claimants come forward.

The Central Washington University Department of Anthropology is responsible for notifying the Confederated Tribes of the Chehalis Reservation, Washington, that this notice has been published.

Dated: March 12, 2012.
Sherry Hutt,
Manager, National NAGPRA Program.

[FR Doc. 2012-6322 Filed 3-15-12; 8:45 am]

BILLING CODE 4312-50-P